DEPARTMENT OF HEALTH AND HUMAN SERVICES

Food and Drug Administration

[Docket No. 02N-0486]

Agency Information Collection Activities; Submission for OMB Review; Comment Request; Prescription Drug Marketing Act of 1987; Administrative Procedures, Policies, and Requirements

AGENCY: Food and Drug Administration, HHS.

ACTION: Notice.

SUMMARY: The Food and Drug Administration (FDA) is announcing that the proposed collection of information listed below has been submitted to the Office of Management and Budget (OMB) for review and clearance under the Paperwork Reduction Act of 1995.

DATES: Fax written comments on the information collection provisions by June 13, 2003.

ADDRESSES: The Office of Management and Budget (OMB) is still experiencing significant delays in the regular mail, including first class and express mail, and messenger deliveries are not being accepted. To ensure that comments on the information collection are received, OMB recommends that written comments be electronically mailed to sshapiro@omb.eop.gov or faxed to the Office of Information and Regulatory Affairs, OMB, Attn: Stuart Shapiro, Desk Officer for FDA, FAX: 202-395-6974.

FOR FURTHER INFORMATION CONTACT: Karen L. Nelson, Office of Information Resources Management (HFA-250), Food and Drug Administration, 5600 Fishers Lane, Rockville, MD 20857, 301-827-1482.

SUPPLEMENTARY INFORMATION: In compliance with 44 U.S.C. 3507, FDA has submitted the following proposed collection of information to OMB for review and clearance.

Prescription Drug Marketing Act of 1987; Administrative Procedures, Policies, and Requirements—21 CFR Part 3 (OMB Control Number 0910-0435)—Extension

The Food and Drug Administration (FDA) is requesting OMB approval under the Paperwork Reduction Act (44 U.S.C. 3507) for the reporting and recordkeeping requirements contained in the regulations implementing the Prescription Drug Marketing Act of 1987 (PDMA) (Public Law 100-293). PDMA was intended to ensure that drug products purchased by consumers are safe and effective and to avoid an unacceptable risk of counterfeit, adulterated, misbranded, subpotent, or expired drugs being sold.

PDMA was enacted by Congress because there were insufficient safeguards in the drug distribution system to prevent the introduction and retail sale of substandard, ineffective, or counterfeit drugs, and that a wholesale drug diversion submarket had developed that prevented effective control over the true sources of drugs.

Congress found that large amounts of drugs had been reimported into the United States as U.S. goods returned causing a health and safety risk to U.S. consumers because the drugs may become subpotent or adulterated during foreign handling and shipping. Congress also found that a ready market for prescription drug reimports had been the catalyst for a continuing series of frauds against U.S. manufacturers and had provided the cover for the importation of foreign counterfeit drugs.

Congress also determined that the system of providing drug samples to physicians through manufacturers' representatives had resulted in the sale to consumers of misbranded, expired, and adulterated pharmaceuticals.

The bulk resale of below-wholesale priced prescription drugs by health care entities for ultimate sale at retail also helped to fuel the diversion market and was an unfair form of competition to wholesalers and retailers who had to pay otherwise prevailing market prices.

FDA is requesting OMB approval for the following reporting and recordkeeping requirements:

Table 1.—Reporting Requirements
21 CFR Section | Reporting and Recordkeeping Requirements
203.11 | Applications for re-importation to provide emergency medical care.
203.30(a)(1) and (b) | Drug sample requests for drug samples distributed by mail or common carrier.
203.30(a)(3), (a)(4), and (c) | Drug sample receipts for drug samples distributed by mail or common carrier.
203.31(a)(1) and (b) | Drug sample requests for drug samples distributed by means other than the mail or a common carrier.
203.31(a)(3), (a)(4), and (c) | Drug sample receipts for drug samples distributed by means other than the mail or a common carrier.
203.37(a) | Investigation of falsification of drug sample records.
203.37(b) | Investigation of a significant loss or known theft of drug samples.
203.37(c) | Notification that a representative has been convicted of certain offenses involving drug samples.
203.37(d) | Notification of the individual responsible for responding to a request for information about drug samples.
203.38(a) | Printing lot or control numbers on the drug sample unit label.
203.39(g) | Preparation by a charitable institution of a reconciliation report for donated drug samples.
203.50(a) | Drug origin statement.
203.23(a) and (b) | Credit memorandom for returned drugs.
203.23(c) | Documentation of proper storage, handling, and shipping conditions of returned drugs.
203.30(a)(2) and 203.31(a)(2) | Verification that a practitioner requesting a drug sample is licensed or authorized to prescribe the product.
203.31(d)(4) | Investigation of apparent discrepancies and significant losses revealed through the reconciliation report.
203.31(e) | Lists of manufacturers' and distributors' representatives.
203.34 | Written policies and procedures describing administrative systems.
203.37(a) | Report of investigation of falsification of drug sample records.
203.37(b) | Report of investigation of significant loss or known theft of drug samples.
203.38(b) | Records of drug sample distribution identifying lot or control numbers of samples distributed.
203.39(d) | Records of drug samples destroyed or returned by a charitable institution.
203.39(e) | Record of drug samples donated to a charitable institution.
203.39(f) | Records of donation and distribution or other disposition of donated drug samples.
203.39(g) | Inventory and reconciliation of drug samples donated to charitable institutions.
203.50(a) | Drug origin statement.
203.50(b) | Retention of drug origin statement for 3 years.
203.50(d) | List of authorized distributors of record.

The reporting and recordkeeping requirements are intended to help achieve the following goals:

1. To ban the reimportation of prescription drugs produced in the United States, except when reimported by the manufacturer or under FDA authorization for emergency medical care;

2. To ban the sale, purchase, or trade, or the offer to sell, purchase, or trade, of any drug sample;

3. To limit the distribution of drug samples to practitioners licensed or authorized to prescribe such drugs or to pharmacies of hospitals or other health care entities at the request of a licensed or authorized practitioner;

4. To require licensed or authorized practitioners to request samples in writing;

5. To mandate storage, handling, and recordkeeping requirements for drug samples;

6. To prohibit, with certain exceptions, the sale, purchase, or trade of, or the offer to sell, purchase, or trade, prescription drugs that were purchased by hospitals or other health care entities, or which were donated or supplied at a reduced price to a charitable organization;

7. To require unauthorized wholesale distributors to provide, prior to the wholesale distribution of a prescription drug to another wholesale distributor or retail pharmacy, a statement identifying each prior sale, purchase, or trade of the drug.

In the Federal Register of December 2, 2002 (67 FR 71572), FDA requested comments on the proposed collection of information. FDA received one comment requesting that it be deemed an “other health care entity” and be permitted to receive and dispense samples to its patients. This comment does not pertain to the information collection estimates in the December 2, 2002, notice, and has been forwarded to the appropriate office in FDA that reviews these types of requests.

Table 2.—Estimated Annual Reporting Burden
21 CFR Section | No. of Respondents | No. of Responses per Respondent | Total Annual Responses | Hours per Response | Total Hours
203.11 | 12 | 1 | 12 | .5 | 6
203.30(a)(1) and (b) | 61,961 | 12 | 743,532 | .06 | 44,612
203.30(a)(3), (a)(4), and (c) | 61,961 | 12 | 743,532 | .06 | 44,612
203.31(a)(1) and (b) | 232,355 | 135 | 31,367,925 | .04 | 1,254,717
203.31(a)(3), (a)(4) and (c) | 232,355 | 135 | 31,367,925 | .03 | 941,038
203.37(a) | 25 | 1 | 25 | 6.00 | 150
203.37(b) | 200 | 1 | 200 | 6.00 | 1,200
203.37(c) | 50 | 1 | 50 | 1.00 | 50
203.37(d) | 2,208 | 1 | 2,208 | .08 | 177
203.38(a) | 2,208 | 1 | 2,208 | 3.00 | 6,624
203.39(g) | 3,221 | 1 | 3,221 | 2.00 | 6,442
203.50(a) | 125 | 100 | 12,500 | .08 | 1,000
Total Reporting Burden Hours | 2,300,628

Table 3.—Estimated Annual Recordkeeping Burden¹
21 CFR Section | No. of Recordkeepers | Annual Frequency per Recordkeeping | Total Annual Records | Hours per Recordkeeper | Total Hours
203.23(a) and (b) | 31,676 | 5 | 158,380 | .25 | 39,595
203.23(c) | 31,676 | 5 | 158,380 | .08 | 12,670
203.30(a)(2) and 203.31(a)(2) | 2,208 | 100 | 220,800 | .50 | 110,400
203.31(d)(1) and (d)(2) | 2,208 | 1 | 2,208 | 40.00 | 88,320
203.31(d)(4) | 442 | 1 | 442 | 24.00 | 10,608
203.31(e) | 2,208 | 1 | 2,208 | 1.00 | 2,208
203.34 | 2,208 | 1 | 2,208 | 40.00 | 88,320
203.37(a) | 25 | 1 | 25 | 18.00 | 450
203.37(b) | 200 | 1 | 200 | 18.00 | 3,600
203.38(b) | 2,208 | 14,543 | 32,111,457 | .02 | 642,229
203.39(d) | 65 | 1 | 65 | 1.00 | 65
203.39(e) | 3,221 | 1 | 3,221 | .50 | 1,610
203.39(f) | 3,221 | 1 | 3,221 | 8.00 | 25,768
203.39(g) | 3,221 | 1 | 3,221 | 8.00 | 25,768
203.50(a) | 125 | 100 | 12,500 | .17 | 2,125
203.50(b) | 125 | 100 | 12,500 | .50 | 6,250
203.50(d) | 691 | 1 | 691 | 2.00 | 1,382
Total Recordkeeping Burden Hours | 1,061,368
¹ There are no capital costs or operating and maintenance costs associated with this collection of information.

Dated: May 2, 2003.
Jeffrey Shuren,
Assistant Commissioner for Policy.

[FR Doc. 03-11925 Filed 5-13-03; 8:45 am]

BILLING CODE 4160-01-S